DEPARTMENT OF ENERGY

Office of Energy Efficiency and Renewable Energy

AGENCY: Department of Energy, Office of Energy Efficiency and Renewable Energy.

ACTION: Notice of open meeting.

SUMMARY: This notice announces a meeting of the State Energy Advisory Board. (STEAB). The Federal Advisory Committee Act (Public Law 92-463; 86 Stat. 770) requires that public notice be announced in the Federal Register.

DATES: July 12, 2001 from 8:00 AM to 5:00 PM, and July 13, 2001 from 8:00 AM to 5:00 PM.

ADDRESSES: West Coast Grand Hotel, 1415 Fifth Avenue, Seattle, WA 98101, Phone: (206) 971-8000.

FOR FURTHER INFORMATION CONTACT: William J. Raup, Office of Planning, Budget, and Outreach, Energy Efficiency and Renewable Energy, U.S. Department of Energy (DOE), Washington, DC 20585, Telephone (202) 586-2214.

SUPPLEMENTARY INFORMATION: Purpose of the Board: To make recommendations to the Assistant Secretary for Energy Efficiency and Renewable Energy regarding goals and objectives and programmatic and administrative policies, and to otherwise carry out the Board's responsibilities as designated in the State Energy Efficiency Programs Improvement Act of 1990 (P.L. 101-440).

Tentative Agenda:

• STEAB Committee updates

• STEAB Annual Report

• STEAB Budget Committee Meeting

• Natural Gas Discussion

• Pacific Northwest Energy Situation Discussion

• Public Comment Period

Public Participation: The meeting is open to the public. Written statements may be filed with the Board either before or after the meeting. Members of the public who wish to make oral statements pertaining to agenda items should contact William J. Raup at the address or telephone number listed above. Requests to make oral presentations must be received five days prior to the meeting; reasonable provision will be made to include the statements in the agenda. The Chair of the Board is empowered to conduct the meeting in a fashion that will facilitate the orderly conduct of business.

Minutes: The minutes of the meeting will be available for public review and copying within 30 days at the Freedom of Information Public Reading Room, 1E-190, Forrestal Building, 1000 Independence Avenue, SW., Washington, DC, between 9 a.m. and 4 p.m., Monday through Friday, except Federal holidays.

Issued at Washington, DC, on June 13, 2001.
Belinda Hood,
Acting Deputy Advisory Committee Management Officer.

[FR Doc. 01-15398 Filed 6-18-01; 8:45 am]

BILLING CODE 6450-01-P